DEPARTMENT OF TRANSPORTATION

Federal Aviation Administration

18th Meeting: RTCA Special Committee 206/EUROCAE WG 76 Plenary

AGENCY: Federal Aviation Administration (FAA), DOT.

ACTION: Notice of RTCA Special Committee 206 meeting; Aeronautical Information Services and Meteorology Data Link Services

SUMMARY: The FAA is issuing this notice to advise the public of a meeting of RTCA Special Committee 206: Aeronautical Information Services and Meteorology Data Link Services

DATES: The meeting will be held September 14-18, 2009 from 9 a.m. to 5 p.m.

ADDRESSES: The meeting will be held at World Meteorological Organization (WMO), 7bis, avenue de la Paix, Case postale No. 2300, CH-1211 Geneva 2, Switzerland

FOR FURTHER INFORMATION CONTACT: In Geneva: Herbert Puempel, tel.: +41.22.730.82.83, Chief, Aeronautical Meteorology Unit (C/AEM), email: hpuempel@wmo.int, Bridgette Vuitteney-Gelman, email: BVuitteney-Gelman@wmo.int, Andrew Mirza, tel.: +44(0)1392 884108, e-mail: andrew.mirza@metoffice.gov.uk, Met Office, FitzRoy Road, Exeter, EX1 3PB, United Kingdom

SUPPLEMENTARY INFORMATION: Pursuant to section 10(a) (2) of the Federal Advisory Committee Act (Pub. L. 92-463, 5 U.S.C., Appendix 2), notice is hereby given for a Special Committee 206/EUROCAE WG 76 Plenary meeting. The agenda will include:

14 September—Monday

9 a.m. Opening Plenary

■ Chairmen's remarks and introductions

■ Review and approve meeting agenda and approval of previous meeting minutes

■ Discussion

■ Schedule for this week

■ Action Item Review

■ Schedule for next meetings

10 a.m. Presentations

■ To be determined

1 p.m. SPR

15 September—Tuesday

9 a.m. Joint AIS and MET Subgroup Meetings

16 September—Wednesday

9 a.m. Joint AIS and MET Subgroup Meetings

17 September—Thursday

9 a.m. Joint AIS and MET Subgroup Meetings

18 September—Friday

9 a.m. Joint AIS and MET Subgroup Meetings

10:30 a.m. Plenary Session

■ Other Business

■ Meeting Plans and Dates

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 10, 2009.
Francisco Estrada C.,
RTCA Advisory Committee.

[FR Doc. E9-19659 Filed 8-14-09; 8:45 am]

BILLING CODE 4910-13-P